DEPARTMENT OF VETERANS AFFAIRS

[OMB Control No. 2900-NEW]

Agency Information Collection Activity: Environmental Hazards Registry (EHR) Worksheet (VA Form 10-10176)

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before October 18, 2019.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-NEW” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Environmental Hazards Registry (EHR) Worksheet (VA Form 10-10176).

OMB Control Number: 2900-NEW.

Type of Review: New collection.

Abstract: Legal authority for this data collection is found under the following Congressional mandates that authorize the collection of data that will allow measurement and evaluation of the Department of Veterans Affairs Programs, the goal of which is improved health care for Veterans.

• Agent Orange Registry: Public Laws 102-4, 102-585 Section 703,100-687 and 38 United States Code (U.S.C.) 527, 38 U.S.C. 1116.

• Gulf War Registry: Public Laws 102-585, 103-446 and 38 U.S.C. 1117.

• Ionizing Radiation: Public Laws 102-585 Section 703, 100-687 and 38 U.S.C. 527, 38 U.S.C. 1116.

The new Environmental Health Registry (EHR) Worksheet, VA Form 10-10176, supersedes VA Form 10-9009 (June 2005), VA Form 10-9009A (March 2010) and VA Form 10-0020A (June 2005). Post Deployment Health Services (PDHS) plans to have this form electronically accessible to Environmental Health Coordinators and Clinicians once the EHR is in place. Until then, PDHS requests to consolidate 3 existing forms into one comprehensive form.

Currently, VA is exploring the performance of limited registry examinations via telemedicine, in order to reduce Veterans' need to travel and potentially reduce waiting times for exams. The form information would be the same, and otherwise the process to collect and put data into the registry database will not change. Once the exam template is available, it can be used to import information more seamlessly into the Veteran patient record.

VA Environmental Health Registry evaluations are free, voluntary medical assessments for Veterans who may have been exposed to certain environmental hazards during military service. Evaluations alert Veterans to possible long-term health problems that may be related to exposure specific to environmental hazards during their military service. The registry data may help VA understand and respond to these health problems more effectively and may be useful for research purposes.

Affected Public: Individuals and households.

Estimated Annual Burden: 20,000 hours.

Estimated Average Burden per Respondent: 60 minutes.

Frequency of Response: Once annually.

Estimated Number of Respondents: 20,000.

By direction of the Secretary.
Danny S. Green,
Interim VA Clearance Officer, Office of Quality, Performance and Risk (OQPR), Department of Veterans Affairs.

[FR Doc. 2019-17675 Filed 8-16-19; 8:45 am]

BILLING CODE 8320-01-P